DEPARTMENT OF TRANSPORTATION

National Highway Traffic Safety Administration

[Docket No. NHTSA-99-5507; Notice 2]

Decision that Nonconforming 1990-1999 Nissan GTS and GTR Passenger Cars Are Eligible for Importation

AGENCY: National Highway Traffic Safety Administration (NHTSA), DOT.

ACTION: Notice of decision by NHTSA that nonconforming 1990-1999 Nissan GTS and GTR passenger cars are eligible for importation.

SUMMARY: This document announces the decision by NHTSA that 1990-1999 Nissan GTS and GTR Passenger cars not originally manufactured to comply with all applicable Federal motor vehicle safety standards are eligible for importation into the United States because they have safety features that comply with, or are capable of being altered to comply with, all such standards.

DATES: The decision is effective as of the date of its publication in the Federal Register.

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards. Where there is no substantially similar U.S.-certified motor vehicle, 49 U.S.C. 30141(a)(1)(B) permits a nonconforming motor vehicle to be admitted into the United States if its safety features comply with, or are capable of being altered to comply with, all applicable Federal motor vehicle safety standards based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this determination in the Federal Register.

J.K. Motors of Baltimore, Maryland (Registered Importer No. R-90-006) petitioned NHTSA to decide whether 1990-1999 Nissan GTS and GTR Passenger cars are eligible for importation into the United States. NHTSA published notice of the petition under Docket Number NHTSA-99-5507 on April 16, 1999 (64 FR 18963) to afford an opportunity for public comment.

As stated in the notice, the petitioner claimed that 1990-1999 Nissan GTS and GTR passenger cars have safety features that comply with Standard Nos. 102 Transmission Shift Lever Sequence . . . (based on comparison of components to those on comparable U.S.-certified models, such as the Nissan 300ZX Turbo), 103 Defrosting and Defogging Systems (based on engineering analysis and comparison of components to those on comparable U.S.-certified models, such as the Nissan 300ZX and 300ZX Turbo), 104 Windshield Wiping and Washing Systems (based on engineering analysis and comparison of components to those on comparable U.S.-certified models, such as the Nissan 240SX, 300ZX, 300ZX Turbo, and Maxima), 105 Hydraulic Brake Systems (based on engineering analysis and comparison of components to those on comparable U.S.-certified models, such as the Nissan 300ZX and Maxima), 106 Brake Hoses (based on comparison of components to those on comparable U.S.-certified models and on visual inspection of certification markings), 109 New Pneumatic Tires (based on visual inspection of certification markings), 113 Hood Latch Systems (based on comparison of components to those on comparable U.S.-certified models, such as the Nissan 300 ZX Turbo), 116 Brake Fluids (based on visual inspection of certification markings), 124 Accelerator Control Systems (based on engineering analysis and comparison of components to those on comparable U.S.-certified models, such as the Nissan 300ZX Turbo, which also utilize dual return springs, either of which is capable of closing the throttle when the other is disconnected), 202 Head Restraints (based on results of dynamic tests conducted for petitioner by MGA Research Corporation to establish vehicles' compliance with Standards 208 and 301), 203 Impact Protection for the Driver from the Steering Control System (based on results of dynamic tests conducted for petitioner by MGA Research Corporation to establish vehicles' compliance with Standard 208), 204 Steering Control Rearward Displacement (based on results of dynamic tests conducted for petitioner by MGA Research Corporation to establish vehicles' compliance with Standard 208), 205 Glazing Materials (based on comparison of components to those on comparable U.S.-certified models and on visual inspection of certification markings), 206 Door Locks and Door Retention Components (based on results of dynamic tests conducted for petitioner by MGA Research Corporation to establish vehicles' compliance with Standards 208 and 301, in which forces exerted far exceed those specified in Standard 206), 209 Seat Belt Assemblies (based on comparison of components to those on comparable U.S.-certified models and on visual inspection of certification markings), 216 Roof Crush Resistance (based on comparison of roof structure to that of comparable U.S. certified models, such as the Nissan 300 ZX, and on engineering analysis), 219 Windshield Zone Intrusion (based on test data), and 302 Flammability of Interior Materials (based on comparison of components to those on comparable U.S.-certified models).

Petitioner also stated that based on engineering analysis the 1990-1999 Nissan GTS and GTR passenger cars comply with the Bumper Standard found at 49 CFR part 581. The petitioner observed that the bumpers are of a customary plastic/nylon design impregnated with body color and that they are mounted with high energy absorption components.

The petitioner also contended that 1990-1999 Nissan GTS and GTR passenger cars are capable of being altered to comply with the following standards, in the manner indicated:

Standard No. 101 Controls and Displays: (a) substitution of a lens marked “Brake” for a lens with an ECE symbol on the brake failure indicator lamp; (b) installation of a speedometer/odometer calibrated in miles per hour. Petitioner stated that it is also silk screening its own custom faces to meet the standard. Petitioner further stated that the remaining controls and displays are identical to those found on comparable U.S.-certified models, such as the Nissan 300ZX.

Standard No. 108 Lamps, Reflective Devices and Associated Equipment: (a) Installation of U.S.-model headlamps and front sidemarker lights; (b) installation of U.S.-model rear sidemarker lights and reflectors; (c) installation of a high mounted stop lamp, if the vehicle is not already so equipped. The petitioner asserts that the tail lamp assemblies meet the standard in all respects.

Standard No. 110 Tire Selection and Rims: installation of a tire information placard. Petitioner stated that the rims that are equipped on the vehicle have DOT certification markings and are identical to those found on comparable U.S.-certified models, such as the Nissan 300ZX Turbo.

Standard No. 111 Rearview Mirrors: replacement of the passenger side rearview mirror with a U.S.-model component.

Standard No. 114 Theft Protection: installation of a U.S.-model warning buzzer in the steering lock electrical circuit on all models and installation of a U.S.-model seatbelt warning system on 1990-1993 models. Petitioner stated that the components installed on GTS models will be identical to those found on the Nissan Maxima, and the components installed on GTR models will be identical to those found on the Nissan 300ZX Turbo.

Standard No. 118 Power-Operated Window Systems: installation of a relay (identical to that found on the Nissan 300ZX) in the power window system of 1990-1993 models so that the window transport is inoperative when the ignition is switched off. Petitioner stated that 1994-1999 models are already equipped with this component.

On May 12, 1999, under 49 CFR part 512, NHTSA's Office of Chief Counsel granted J.K.'s request for confidential treatment of structural drawings submitted with the petition to demonstrate the capability of the vehicles to be conformed to Standard Nos. 201, 207, 208, 210, 214, and 301, but denied J.K.'s request for confidential treatment of test data submitted with the petition that confirmed the vehicles' conformity with the standards. The material for which confidentiality was denied has been placed in the public docket, together with a copy of the petition.

Standard No. 201 Occupant Protection in Interior Impact: The petitioner stated that compliance with Standard 201 was demonstrated in dynamic tests conducted for the petitioner by MGA Research Corporation to establish the vehicles' compliance with Standards 208 and 301. These tests were conducted after the petitioner had made structural modifications to the dash area of the vehicles.

Standard No. 207 Seating Systems: The petitioner stated that compliance with Standard 207 was demonstrated in dynamic tests conducted for the petitioner by MGA Research Corporation to establish the vehicles' compliance with Standards 208 and 301. These tests were conducted after the petitioner had made structural modifications to the seat frames.

Standard No. 208 Occupant Crash Protection: (a) Replacement of the driver's side airbag on 1990-1993 models, and the driver's and passenger's side airbags on 1994-1999 models with components manufactured to petitioner's specifications based on the results of static and dynamic tests conducted by MGA Research Corporation. These tests were conducted after petitioner had made certain structural modifications to the vehicle; (b) installation of an airbag warning label on each sun visor. Petitioner stated that the vehicle is equipped with a seatbelt warning lamp and buzzer that are identical to components found on comparable U.S.-certified models. The petitioner also stated that the vehicles are equipped with combination lap and shoulder restraints that adjust by means of an automatic retractor and release by means of a single push button at all front and rear designated seating positions.

Standard No. 210 Seat Belt Assembly Anchorages: The petitioner stated that compliance with Standard 207 was demonstrated in dynamic tests conducted for the petitioner by MGA Research Corporation to establish the vehicles' compliance with Standards 208 and 301. These tests were conducted after structural modifications at seat belt assembly anchorage points. That are depicted in structural drawings that were granted confidentiality by NHTSA's Office of Chief Counsel under 49 CFR part 512.

Standard No. 212 Windshield Retention: application of adhesives to the windshield's edges.

Standard No. 214 Side Impact Protection: The petitioner stated that compliance with Standard 214 was demonstrated in dynamic tests on both sides of the vehicle conducted for the petitioner by MGA Research Corporation. These tests were conducted after certain structural modifications to the vehicle. The petitioner observed that no doors opened on impact in the course of these tests.

Standard No. 301 Fuel System Integrity: The petitioner stated that compliance with Standard 301 was demonstrated in dynamic tests conducted for the petitioner by MGA Research Corporation. These tests were made after fuel system modifications made in conjunction with those necessary to meet Environmental Protection Agency (EPA) requirements.

The petitioner additionally stated that a vehicle identification number (VIN) plate must be attached to the left windshield post and a reference and certification label must be added in the left front door post area to meet 49 CFR part 565.

No comments were received in response to the notice of petition. Based on its review of the information submitted by the petitioner, NHTSA has decided to grant the petition.

Vehicle Eligibility Number for Subject Vehicles

The importer of a vehicle admissible under any final determination must indicate on the form HS-7 accompanying entry the appropriate vehicle eligibility number indicating that the vehicle is eligible for entry. VCP-17 is the vehicle eligibility number assigned to vehicles admissible under this determination.

Final Decision

Accordingly, on the basis of the foregoing, NHTSA hereby decides that 1990-1999 Nissan GTS and GTR Passenger cars are eligible for importation into the United States because they have safety features that comply with, or are capable of being altered to comply with, all applicable Federal motor vehicle safety standards.

Authority: 49 U.S.C. 30141(a)(1)(B) and (b)(1); 49 CFR 593.8; delegations of authority at 49 CFR 1.50 and 501.8.

Issued on: January 12, 2000.
Marilynne Jacobs,
Director, Office of Vehicle Safety Compliance.

[FR Doc. 00-1125 Filed 1-18-00; 8:45 am]

BILLING CODE 4910-59-P